DEPARTMENT OF LABOR

Employment and Training Administration

[TA-W-37,570]

Lilly Industries, Inc., Indianapolis, Indiana; Notice of Termination of Investigation

Pursuant to Section 221 of the Trade Act of 1974, an investigation was initiated on April 17, 2000, in response to a petition filed on the same date on behalf of workers at Lilly Industries, Inc., Indianapolis, Indiana.

The company official submitting the petition has requested that the petition be withdrawn. Consequently, further investigation in this case would serve no purpose, and the investigation has been terminated.

Signed in Washington, D.C., this 10th day of July 2000.
Grant D. Beale,
Program Manager, Division of Trade Adjustment Assistance.

[FR Doc. 00-19409 Filed 7-30-00; 8:45 am]

BILLING CODE 4510-30-M